DEPARTMENT OF VETERANS AFFAIRS

38 CFR Part 1

RIN 2900-AJ49

Outer Burial Receptacles

AGENCY: Department of Veterans Affairs.

ACTION: Proposed rule.

SUMMARY: By statute the Department of Veterans Affairs (VA) is authorized to provide a monetary allowance for each new burial in a VA national cemetery where a privately-purchased outer burial receptacle is used in lieu of a government-furnished graveliner. This document proposes to establish a mechanism for implementing these provisions.

DATES: Comments must be received on or before June 19, 2000.

ADDRESSES: Mail or hand-deliver written comments to: Director, Office of Regulations Management (02D), Department of Veterans Affairs, 810 Vermont Ave., NW, Room 1154, Washington, DC 20420; or fax comments to (202) 273-9289; or e-mail comments to “OGCRegulations@mail.va.gov”. Comments should indicate that they are submitted in response to “RIN 2900-AJ49.” All comments received will be available for public inspection in the Office of Regulations Management, Room 1158, between the hours of 8 a.m. and 4:30 p.m., Monday through Friday (except holidays).

FOR FURTHER INFORMATION CONTACT: Ken Greenberg, Staff Assistant, Office of Operations Support (402), National Cemetery Administration, Department of Veterans Affairs, 810 Vermont Avenue, NW, Washington, DC 20420. Telephone: 202-273-5179 (this is not a toll-free number).

SUPPLEMENTARY INFORMATION: Public Law 100-322 authorizes VA to provide a graveliner at no cost to the family for the casketed remains of individuals buried in open national cemeteries. Typically, a graveliner is pre-cast concrete or thermoplastic in the form of a box with a removable lid. The casket is placed inside the graveliner which assist in maintaining the integrity of the soil around the grave by reducing the likelihood of a sunken grave.

Public Law 104-275 was enacted on October 9, 1996. The Public Law allowed VA to provide a monetary allowance for each new burial in a VA national cemetery where a privately-purchased outer burial receptacle is used in lieu of a government-furnished graveliner.

Under the Public Law, the monetary allowance is equal to the average cost of the government-furnished graveliner which would have been furnished, minus any administrative costs incurred by VA. As an example, if it costs VA an average of $125 to purchase a graveliner and the administrative cost to process an allowance for a privately-purchased outer burial receptacle is $10, VA would pay a monetary allowance of $115 toward the cost of the privately-purchased outer burial receptacle. VA would update the allowance annually by notice in the Federal Register to reflect the current average cost of purchasing graveliners by VA minus the administrative cost for VA to process the allowance. Under the proposed rule, the next allowance payable for interments occurring during the period from October 9, 1996, through December 31, 1999, would be the rate determined for fiscal year 1999. This would reduce the administrative burden required to calculate allowances, and would expedite payment to recipients. Further, this is warranted since the average cost to the government to purchase graveliners has not varied significant since 1996.

The average cost of graveliners would not include graveliners procured and pre-placed in gravesites as part of cemetery gravesite development projects or double depth graveliners. The costs of these two types of graveliners purchased are not representative of the cost of a single-depth graveliner purchased for installation at the time of interment. The double depth liners hold two caskets, whereas the single depth liners hold one casket. Pre-placed liners are procured as part of a larger gravesite development construction project.

The proposed rule provides that an application for payment of the monetary allowance would not be required. Currently, all information necessary for identifying the individual entitled to payment of the monetary allowance is included in information already being collected under the National Cemetery Administration's Burial Operation Support System (BOSS).

Further, we have a method for determining in almost all cases those individuals entitled to the allowance for purchasing outer burial receptacles prior to January 1, 2000. In almost all cases when an outer burial receptacle was purchased, the person listed as the next of kin paid for it. Accordingly, we believe there is a basis for a presumption that such person paid for the outer burial receptacle. Accordingly, for burials during the period October 9, 1996, through December 31, 1999, the allowance would be paid to the person identified as the next of kin in records contained in the BOSS. However, if a person who is not listed as the next of kin provides evidence that he or she paid for the outer burial receptacle, the allowance would be paid instead to that person.

In burials where a casket already exists in a grave with or without a graveliner, placement of a second casket in an outer burial receptacle would not be permitted in the same grave unless the national cemetery director determines that the already interred casket would not be damaged.

Regulatory Flexibility Act

The Secretary certifies that this proposed rule would not have a significant economic impact on a substantial number of small entities as they are defined in the Regulatory Flexibility Act, 5 U.S.C. 601-612. The proposed rule would not affect the sale of outer burial receptacles. Further, the basic provisions of the proposed rule reflect statutory requirements. Accordingly, pursuant to 5 U.S.C. 605(b), the proposed rule is exempt from the initial and final regulatory flexibility analyses requirements of sections 603 and 604.

Catalog of Federal Domestic Assistance Number for programs affected by this regulation is 64.201.

List of Subjects in 38 CFR Part 1

Administrative practice and procedure, Archives and records, Cemeteries, Claims, Courts, Flags, Freedom of information, Government contracts, Government employees, Government property, Infants and children, Inventions and patents, Investigations, Parking, Penalties, Postal Service, Privacy, Reporting and recordkeeping requirements, Seals and insignia, Security measures, wages.

Approved: March 13, 2000.
Togo D. West, Jr.,
Secretary of Veterans Affairs.

For the reasons set out in the preamble, 38 CFR part 1 is proposed to be amended as follows:

PART 1—GENERAL PROVISIONS

1. The authority citation for part 1 continues to read as follows:

Authority: 38 U.S.C. 501(a), unless otherwise noted.

2. Section 1.629 is added to read as follows:

§ 1.629 Monetary allowance in lieu of a government-furnished outer burial receptacle.

(a) Definitions. Outer Burial Receptacle. For the purpose of this section, an outer burial receptacle means a graveliner, burial vault, or other similar type of container for a casket.

(b) Purpose. This section provides for payment of a monetary allowance for an outer burial receptacle for any interment in a VA national cemetery where a privately-purchased outer burial receptacle has been used in lieu of a government-furnished graveliner.

(c) Second Interments. In burials where a casket already exists in a grave with or without a graveliner, placement of a second casket in an outer burial receptacle will not be permitted in the same grave unless the national cemetery director determines that the already interred casket will not be damaged.

(d) Payment of monetary allowance. VA will pay a monetary allowance for each burial in a VA national cemetery where a privately-purchased outer burial receptacle was used on and after October 9, 1996. For burials on or after January 1, 2000, the person identified in records contained in the National Cemetery Administration Burial Operations Support System as the person who privately purchased the outer burial receptacle will be paid the monetary allowance. For burials during the period October 9, 1996, through December 31, 1999, the allowance will be paid to the person identified as the next of kin in records contained in the National Cemetery Administration Burial Operations Support System based on the presumption that such person privately purchased the outer burial receptacles (however, if a person who is not listed as the next of kin provides evidence that he or she privately purchased the outer burial receptacle, the allowance will be paid instead to that person). No application is required to receive payment of a monetary allowance.

(e) Amount of the allowance. (1) For calendar year 2000 and each calendar year thereafter, the allowance will be the average cost, as determined by VA, of government-furnished graveliners, less the administrative costs incurred by VA in processing and paying the allowance.

(i) The average cost of government-furnished graveliners will be based upon the actual average cost to the government of such graveliners during the most recent fiscal year ending prior to the start of the calendar year for which the amount of the allowance will be used. This average cost will be determined by taking VA's total cost during that fiscal year for single-depth graveliners which were procured for placement at the time of interment and dividing it by the total number of such graveliners procured by VA during that fiscal year. The calculation shall exclude both graveliners procured and pre-placed in gravesites as part of cemetery gravesite development projects and all double-depth graveliners.

(ii) The administrative costs incurred by VA will consist of those costs that relate to processing and paying an allowance, as determined by VA, for the calendar year ending prior to the start of the calendar year for which the amount of the allowance will be used.

(2) For calendar year 2000 and each calendar year thereafter, the amount of the allowance for each calendar year will be published in the “Notices” section of the Federal Register. The Federal Register Notice will also provide, as information, the determined average cost of government-furnished graveliners and the determined amount of the administrative costs to be deducted.

(3) The published allowance amount for interments which occur during calendar year 2000 will also be used for payment of any allowances for interments which occurred during the period from October 9, 1996, through December 31, 1999.

(Authority: 38 U.S.C. 2306(d)).

[FR Doc. 00-9602 Filed 4-17-00; 8:45 am]

BILLING CODE 8320-01-P